DEPARTMENT OF ENERGY

Federal Energy Regulatory Commission

[Docket No. RP05-341-000]

Midwestern Gas Transmission Company; Notice of Proposed Changes in FERC Gas Tariff

May 18, 2005.

Take notice that on May 13, 2005, Midwestern Gas Transmission Company (Midwestern) tendered for filing to become part of its FERC Gas Tariff, Third Revised Volume No. 1, the following tariff sheets to become effective June 12, 2005:

Second Revised Sheet No. 254

Sixth Revised Sheet No. 262

Second Revised Sheet No. 255

Fourth Revised Sheet No. 262.01

Second Revised Sheet No. 256

Fourth Revised Sheet No. 263

Second Revised Sheet No. 257

Fifth Revised Sheet No. 264

Second Revised Sheet No. 258

Second Revised Sheet No. 264A

Second Revised Sheet No. 259

Second Revised Sheet No. 265

First Revised Sheet No. 260

Fourth Revised Sheet No. 266B

First Revised Sheet No. 261

Midwestern states that it is filing the tariff sheets to revise section 21 of its general terms and conditions in order to reflect current business practices and reorganize the subsections in a more sequential manner thereby resulting in more comprehendible tariff provisions for its customers.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2615 Filed 5-24-05; 8:45 am]

BILLING CODE 6717-01-P